DEPARTMENT OF JUSTICE

Notice of Lodging of Proposed Consent Decree Under the Comprehensive Environmental Response, Compensation, and Liability Act

On January 7, 2015, the Department of Justice lodged a proposed Consent Decree with the United States District Court for the Northern District of Indiana in the lawsuit entitled United States v. ARG Corporation, Civil Action No. 10-cv-311.

In August 2010, the United States filed suit against ARG Corporation (“ARG”) and Norbert Toubes under the Comprehensive Environmental Response, Compensation, and Liability Act (“CERCLA”) for the recovery of response costs incurred at the South Bend Lathe Superfund Site (the “Site”), in South Bend, Indiana. The Consent Decree resolves ARG's and Mr. Toubes' CERCLA liability for past response costs at the Site for a total of $500,000. ARG and Mr. Toubes are required to pay $250,000 on February 1, 2015 and $250,000 on August 1, 2015.

The publication of this notice opens a period for public comment on the Consent Decree. Comments should be addressed to the Assistant Attorney General, Environment and Natural Resources Division, and should refer to United States v. ARG Corporation, D.J. Ref. No. 90-11-3-09441. All comments must be submitted no later than thirty (30) days after the publication date of this notice. Comments may be submitted either by email or by mail:

To submit comments: | Send them to:
By e-mail | pubcomment-ees.enrd@usdoj.gov
By mail | Assistant Attorney General, U.S. DOJ-ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ-ENRD, P.O. Box 7611, Washington, DC 20044-7611.

Please enclose a check or money order for $4.25 (25 cents per page reproduction cost) payable to the United States Treasury.

Randall M. Stone,
Acting Assistant Section Chief, Environmental Enforcement Section, Environment and Natural Resources Division.

[FR Doc. 2015-00275 Filed 1-12-15; 8:45 am]

BILLING CODE 4410-15-P